NATIONAL ARCHIVES AND RECORDS ADMINISTRATION

[NARA-2014-035]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize preservation of records of continuing value in the National Archives of the United States and destruction, after a specified period, of records lacking administrative, legal, research, or other value. NARA publishes notices for records schedules in which agencies propose to destroy records not previously authorized for disposal or reduce the retention period of records already authorized for disposal. NARA invites public comments on such records schedules, as required by 44 U.S.C. 3303a(a).

DATES: Requests for copies must be received in writing on or before July 11, 2014. Once NARA completes the appraisal of the records, NARA will send a copy of the schedule. NARA staff usually prepare appraisal memoranda that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year, Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless specified otherwise. An item in a schedule is media-neutral when the disposition instructions may be applied to records regardless of the medium in which the records are created and maintained. Items included in schedules submitted to NARA on or after December 17, 2007, are media-neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value. Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (DAA-AU-2014-0019, 1 item, 1 temporary item). Master files of an electronic information system containing helicopter maintenance records.

2. Department of the Army, Agency-wide (DAA-AU-2014-0021, 1 item, 1 temporary item). Master files of an electronic information system containing records related to equipment tests and evaluations.

3. Department of Commerce, Bureau of the Census (DAA-0029-2014-0002, 5 items, 5 temporary items). Inputs, outputs, and system documentation of an electronic information system containing rural address information.

4. Department of Defense, Defense Health Agency (DAA-0330-2014-0006, 2 items, 2 temporary items). Master files of an electronic information system containing combat theater medical data.

5. Court Services and Offenders Supervision Agency for the District of Columbia, Agency-wide (DAA-0562-2013-0001, 3 items, 3 temporary items). Master files and outputs of an electronic information system containing employee suggestions.

6. Library of Congress, Agency-wide (DAA-0297-2014-0001, 25 items, 14 temporary items). Records include background materials used to develop agency products designated for permanent retention, non-substantive program subject files, low-level meeting records, and customer feedback records. Proposed for permanent retention are substantive program subject files, annual reports, records of meetings and correspondence of senior officials, and records of committees overseeing substantive programs.

7. Library of Congress, Agency-wide (DAA-0297-2014-0002, 4 items, 4 temporary items). Records relating to the daily administration of agency programs.

8. Library of Congress, Agency-wide (DAA-0297-2014-0004, 11 items, 11 temporary items). Records relating to personnel actions such as merit selection, compensation, awards, and training.

9. Library of Congress, Agency-wide (DAA-0297-2014-0005, 7 items, 6 temporary items). Budget, accounting, and financial management records. Proposed for permanent retention are budget estimates and justifications.

10. Library of Congress, Agency-wide (DAA-0297-2014-0008, 4 items, 2 temporary items). Security and emergency management records. Proposed for permanent retention are emergency planning case files and test reports.

11. Peace Corps, Overseas Posts (N1-490-12-7, 1 item, 1 temporary item). Training materials for staff and volunteers.

12. Peace Corps, Office of the Director (DAA-0490-2013-0001, 2 items, 1 temporary item). Routine correspondence records. Proposed for permanent retention are high-level correspondence records.

13. Selective Service System, Agency-wide (DAA-0147-2014-0001, 2 items, 2 temporary items). Master files of electronic information systems containing personnel management data.

Dated: June 4, 2014.
Paul M. Wester, Jr.,
Chief Records Officer for the U.S. Government.

[FR Doc. 2014-13630 Filed 6-10-14; 8:45 am]

BILLING CODE 7515-01-P